ENVIRONMENTAL PROTECTION AGENCY

[E-Docket No. ORD-2005-0026; FRL-7993-4]

Draft All-Ages Lead Model

AGENCY: Environmental Protection Agency (EPA).

ACTION: Notice of extension of public comment period.

SUMMARY: The EPA Office of Research and Development's National Center for Environmental Assessment (NCEA) is extending the public comment period by 45 days for an external review draft of the newly developed All-Ages Lead Model (AALM) Version 1.05.

On September 27, 2005, EPA published a Federal Register notice (70 FR 56447) announcing: (1) the public availability of the draft model and (2) the beginning of a 30-day public comment period. EPA is extending the public comment period to December 12, 2005, in response to requests for extension of the comment period. As previously stated in 70 FR 56447, EPA is releasing this draft model solely for the purpose of pre-dissemination peer review under applicable information quality guidelines. This model has not been formally disseminated by EPA. It does not represent and should not be construed to represent any Agency policy or determination.

DATES: The period for submission of comments on the external review draft of the AALM now ends on December 12, 2005. Technical comments should be in writing and must be received by EPA by close of business December 12, 2005.

ADDRESSES: The draft AALM is available primarily via the Internet on the National Center for Environmental Assessment's home page under the Recent Additions and Publications menus at http://www.epa.gov/ncea. The EPA numbers are: EPA/600/C-05/013 for the model and EPA/600/R-05/102 for the user's guide. A limited number of CD-ROM copies are available. For information on copies of the draft documents, contact Ms. Diane Ray by phone (919-541-3637), facsimile (919-541-1818), or e-mail (ray.diane@epa.gov) to request a CD-ROM copy. Please provide the draft's title, All-Ages Lead Model (AALM) Version 1.05, the EPA numbers, EPA/600/C-05/013 and EPA/600/R-05/102, and your name and address to facilitate processing of your request. Public comments on the external review draft of the AALM may be submitted electronically, by mail, by facsimile, or by hand delivery/courier. Please follow the detailed instructions as provided in the section of this notice entitled SUPPLEMENTARY INFORMATION.

FOR FURTHER INFORMATION CONTACT: For details on the period for submission of comments from the public, contact the Office of Environmental Information Docket; telephone: 202-566-1752; facsimile: 202-566-1753; or e-mail: ORD.Docket@epa.gov.

For technical information, contact Robert Elias, PhD., NCEA, facsimile: 919-541-1818, or e-mail: elias.robert@epa.gov.

SUPPLEMENTARY INFORMATION:

I. Information About the Document

As discussed in the September 27, 2005, Federal Register notice, the AALM represents EPA's latest efforts to develop tools to model human lead exposure, and it builds on EPA's prior experience in lead modeling. See that notice for further background information.

As announced in a Federal Register notice on October 14, 2005 (70 FR 60077), EPA will present the external review draft of the All-Ages Lead Model (AALM) Version 1.05, at a public meeting for review by EPA's Science Advisory Board (SAB) Ad Hoc All-Ages Lead Model (AALM) Review Panel. Public comments received during the external review comment period will be provided to the SAB review panel.

II. How To Submit Technical Comments to EPA's E-Docket

EPA has established an official public docket for information pertaining to the external review draft of the AALM, Docket ID No. ORD-2005-0026. The official public docket is the collection of materials, excluding Confidential Business Information (CBI) or other information whose disclosure is restricted by statute that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, also not included in the official public docket, will not be available for public viewing in E-Docket. Copyrighted material also will not be placed in E-Docket but will be referenced there and available as printed material in the official public docket.

Persons submitting public comments should note that EPA's policy makes the information available as received and at no charge for public viewing at the EPA Docket Center or in E-Docket. This policy applies to information submitted electronically or in paper form, except where restricted by copyright, CBI, or statute.

Unless restricted as above, public comments submitted on computer disks that are mailed or delivered to the docket will be transferred to E-Docket. Physical objects will be photographed, where practical, and the photograph will be placed in E-Docket along with a brief description written by the docket staff.

You may submit public comments electronically, by mail, by facsimile, or by hand delivery/courier. To ensure proper receipt by EPA, include the appropriate docket identification number with your submission. Please adhere to the specified submitting period. Public comments received or submitted past the closing date will be marked “late” and may only be considered if time permits.

If you submit public comments electronically, EPA recommends that you include your name, mailing address, and an e-mail address or other details for contacting you. Also include these contact details on the outside of any disk or CD-ROM you submit, and in any cover letter accompanying the disk or CD-ROM. This ensures that you can be identified as the person submitting the public comments and allows EPA to contact you in case the Agency cannot read what you submit due to technical difficulties or needs to clarify issues raised by what you submit. If EPA cannot read what you submit due to technical difficulties and cannot contact you for clarification, it may delay or prohibit the Agency's consideration of the public comments.

To access EPA's electronic public docket from the EPA Internet Home Page, select “Information Sources,” “Dockets,” and “EPA Dockets.” Once in the system, select “search,” and key in Docket ID No. ORD-2005-0026. The system is an “anonymous access” system, which means EPA will not know your identity, e-mail address, or other contact details unless you provide it in the body of your comment.

Public comments may be sent by electronic mail (e-mail) to ORD.Docket@epa.gov, Attention Docket ID No. ORD-2005-0026. In contrast to EPA's electronic public docket, EPA's e-mail system is not an “anonymous access” system. If you send an e-mail directly to the docket without going through EPA's E-Docket, EPA's e-mail system automatically captures your e-mail address, and it becomes part of the information in the official public docket and is made available in EPA's E-Docket.

You may submit public comments on a disk or CD-ROM mailed to the OEI Docket mailing address. Files will be accepted in WordPerfect, Word, or PDF file format. Avoid the use of special characters and any form of encryption.

If you provide public comments in writing, please submit one unbound original, with pages numbered consecutively, and three copies. For attachments, provide an index, number pages consecutively with the main text, and submit an unbound original and three copies.

Dated: October 28, 2005.
George Alapas,
Director, National Center for Environmental Assessment

[FR Doc. 05-21939 Filed 11-2-05; 8:45 am]

BILLING CODE 6560-50-P